ENVIRONMENTAL PROTECTION AGENCY

[FRL-7514-3]

Public Water System Supervision Program Revision for the State of Louisiana

AGENCY: Environmental Protection Agency (EPA).

ACTION: Notice of tentative approval.

SUMMARY: Notice is hereby given that the State of Louisiana is revising its approved Public Water System Supervision Program. Louisiana has revised its administrative penalty authority, revised its definition for public water system, and adopted a consumer confidence report rule for all community water systems. EPA has determined that these revisions are no less stringent than the corresponding federal regulations. Therefore, EPA intends to approve these program revisions. All interested parties may request a public hearing. A request for a public hearing must be submitted by July 18, 2003, to the Regional Administrator at the EPA Region 6 address shown below. Frivolous or insubstantial requests for a hearing may be denied by the Regional Administrator. However, if a substantial request for a public hearing is made by July 18, 2003, a public hearing will be held. If no timely and appropriate request for a hearing is received and the Regional Administrator does not elect to hold a hearing on his own motion, this determination shall become final and effective on July 18, 2003. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8 a.m. and 4:30 p.m., Monday through Friday, at the following offices: Louisiana Department of Health and Hospitals, Engineering Services, Safe Drinking Water Program, 6867 Bluebonnet Drive, Baton Rouge, LA 70810 and the United States Environmental Protection Agency, Region 6, Drinking Water Section (6WQ-SD), 1445 Ross Avenue, Suite 1200, Dallas, Texas 75202.

FOR FURTHER INFORMATION CONTACT: David Reazin, EPA Region 6, Drinking Water Section at the Dallas address given above or at telephone (214) 665-7501, or reazin.david@epa.gov.

Authority: (Sec. 1413 of the Safe Drinking Water Act, as amended (1996), and 40 CFR part 142 of the National Primary Drinking Water Regulations).

Dated: June 9, 2003.
Richard E. Greene,
Regional Administrator, Region 6.

[FR Doc. 03-15255 Filed 6-17-03; 8:45 am]

BILLING CODE 6560-50-P